DEPARTMENT OF COMMERCE

National Oceanic and Atmospheric Administration

Agency Information Collection Activities; Submission to the Office of Management and Budget (OMB) for Review and Approval; Comment Request; High Seas Fishing Permit Application, Logbook Reporting and Vessel Marking

AGENCY: National Oceanic and Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 18, 2021.

ADDRESSES: Interested persons are invited to submit written comments to Adrienne Thomas, NOAA PRA Officer, at adrienne.thomas@noaa.gov. Please reference OMB Control Number 0648-0304 in the subject line of your comments. Do not submit Confidential Business Information or otherwise sensitive or protected information.

FOR FURTHER INFORMATION CONTACT: Requests for additional information or specific questions related to collection activities should be directed to Christopher Rogers, Chief, International Fisheries Division, Office of International Affairs and Seafood Inspection, National Marine Fisheries Service (NMFS), at 1315 East-West Hwy., Silver Spring, MD 20910; phone: 301-427-8350 or email: christopher.rogers@noaa.gov.

SUPPLEMENTARY INFORMATION:

I. Abstract

The NMFS Office of International Affairs and Seafood Inspection collects information about United States (U.S.) vessels that fish on the high seas (waters beyond the U.S. exclusive economic zone). Such vessels are required to possess a fishing permit issued under the authority of the High Seas Fishing Compliance Act (HSFCA). Applicants for this permit must submit information (including a photo) to identify their vessels, and about owners and operators of the vessels, and intended fishing areas and fishing gear. The information submitted on the application is used to process permits and to maintain a register of U.S. vessels authorized to fish on the high seas.

Implementing regulations for the HSFCA also require vessels be marked for identification and enforcement purposes. Vessels must be marked in three locations (port and starboard sides of the deckhouse or hull, and on a weatherdeck) with their official number or radio call sign. Additional regulatory requirements include reporting on fishing activities and transshipments, notification of fishing trips for embarking observers (if selected), and operating a vessel monitoring system including power up and power down notifications. Finally, vessel operators may make requests for NMFS to authorize new fisheries (fishing gear, fishing area, target species) for U.S. vessels operating on the high seas.

These requirements apply to all U.S. vessels fishing on the high seas. Information on U.S. high seas fishing catch and effort is reported to the Food and Agriculture Organization of the United Nations as authorized under the HSFCA.

II. Method of Collection

Owners or operators of high seas fishing vessels must submit electronic permit applications (including vessel photo) via the NMFS online permitting system. Vessel operators submit logbook pages/transshipment notices/declarations to NMFS by email. Notifications for observer coverage and power down/power up of vessel monitoring systems are submitted via email. Requests for authorizing new fisheries on the high seas are submitted via letter/email. No information is submitted for the vessel marking requirement. The markings are only displayed on the vessel.

III. Data

OMB Number: 0648-0304.

Form Number: None.

Type of Review: Regular submission (extension of a currently approved information collection).

Affected Public: Business or other for profit organizations.

Estimated Number of Respondents: 600.

Estimated Time per Response: 30 minutes per electronic vessel permit application including uploading a vessel photograph; for logbook reports, 6 minutes per day for days fish are caught, 1 minute per day for days when fish are not caught; 45 minutes (15 minutes for each of 3 locations) for vessel markings; 5 minutes for advance notices of transshipment and 10 minutes for transshipment reports; 5 minutes for power up/power down notifications for enhanced mobile transceiver units; 5 minutes to notify NMFS of a fishing trip to allow for observer coverage; and 30 minutes to prepare/submit requests to authorize a new fishery on the high seas.

Estimated Total Annual Burden Hours: 302.

Estimated Total Annual Cost to Public: $162,919.

Respondent's obligation: Mandatory (voluntary for new fishery authorization requests).

Legal Authority: HSFCA (Pub. L. 104-43) codified at 16 U.S.C. 5501 et seq.

IV. Request for Comments

We are soliciting public comments to allow the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-17803 Filed 8-18-21; 8:45 am]

BILLING CODE 3510-22-P